DEPARTMENT OF TRANSPORTATION

Federal Aviation Administration

Agency Information Collection Activities: Requests for Comments; Clearance of Renewed Approval of Information Collection: Generic Clearance for Customer Interactions

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 31, 2021. The collection is a part of the Federal Government-wide effort to streamline the process to seek feedback from the public.

DATES: Written comments should be submitted by December 17, 2021.

ADDRESSES: Send Comments to the FAA at the following address: Barbara Hall, Federal Aviation Administration, ASP-110, 10101 Hillwood Parkway, Fort Worth, TX 76177.

FOR FURTHER INFORMATION CONTACT: Barbara Hall at (940) 594-5913, or by email at: Barbara.L.Hall@faa.gov.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0772.

Title: Generic Clearance for Customer Interactions.

Form Numbers: None.

Type of Review: Renewal.

Background: The Federal Register Notice with a 60-day comment period soliciting comments on the following collection of information was published on March 31, 2021 (86 FR 16833). Customer Interactions provide the Federal Aviation Administration valuable information and connect the agency to the public that we serve. In order to ensure a timely and consistent process for Paperwork Reduction Act compliance, the Federal Aviation Administration is proposing to develop a Generic Information Collection Request to be utilized for Customer Interactions that support the Agency's mission.

Customer Interactions can support the Federal Aviation Administration's mission by allowing the Agency to collect qualitative and quantitative data that can help inform scientific research; aviation assessments and monitoring efforts; validate models or tools; and enhance the quantity and quality of data collected across communities. Customer Interactions also create an avenue to incorporate local knowledge and needs, and can contribute to increased data sharing, open data, and government transparency. The Federal Aviation Administration may sponsor the collection of this type of information in connection with aviation projects. All such collections will follow Agency policies and regulations. If a new collection is not within the parameters of this generic Information Collection Request (ICR), the Agency will submit a separate information collection request to Office of Management and Budget (OMB) for approval.

Collections under this generic ICR will be from volunteers who participate on their own initiative through an open and transparent process; the collections will be low-burden for participants; collections will be low-cost for both the participants and the Federal Government; and data will be available to support the endeavors of the Agency, states, tribal or local entities where data collection occurs.

Respondents: Approximately 110,000 Individuals and Households, Businesses and Organizations, State, Local or Tribal Government.

Frequency: Once per request.

Estimated Average Burden per Response: 10 minutes.

Estimated Total Annual Burden: 18,330 hours.

Issued in Fort Worth, TX, on November 12, 2021.
Sandra L. Ray,
Aviation Safety Inspector.

[FR Doc. 2021-25060 Filed 11-16-21; 8:45 am]

BILLING CODE 4910-13-P